NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 13, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Grain Inspection, Packers, and Stockyards Administration (N1-545-08-24, 6 items, 4 temporary items). Records of the Field Management Division, including program notices, non-substantive reports, and case files for revising procedures and standards. Proposed for permanent retention are substantive reports, program directives, and handbooks containing official procedures and standards.

2. Department of Agriculture, Risk Management Agency (N1-258-09-11, 2 items, 2 temporary items). Master files of electronic information systems containing compliance review case files and information used to track fraud, waste, and abuse.

3. Department of the Army, Agency-wide (N1-AU-10-54, 1 item, 1 temporary item). Master files of an electronic information system used by original equipment manufacturers to develop interactive electronic technical manuals for Army and Marine vehicle systems, including vehicle system troubleshooting, procedural maintenance, and part repair data.

4. Department of the Army, Agency-wide (N1-AU-10-91, 1 item, 1 temporary item). Master files of an electronic information system used to manage data of aircraft components, aviation maintenance, usage, and vibratory data.

5. Department of the Army, Agency-wide (N1-AU-11-16, 1 item, 1 temporary item). Master files of an electronic information system used by the National Guard Bureau to budget, track, and report on all financial matters, including records related to contracting services, government purchase card transactions, training funds, and travel funds.

6. Department of Army, Agency-wide (N1-AU-11-18, 1 item, 1 temporary item). Master files of an electronic information system used by the National Guard Bureau to identify and develop programs which automate requirements not included in standard Army systems, including logistical data on weapons, electronic equipment, vehicles, aviation, and medical equipment.

7. Department of the Army, Agency-wide (N1-AU-11-21, 1 item, 1 temporary item). Master files of an electronic information system used by the National Guard Bureau to manage supply, finance, maintenance, man-hour accountability, and reports on the maintenance and repair of aircraft, including budget, supply, maintenance, and time and attendance data.

8. Department of Health and Human Services, Office of the Secretary (N1-468-10-1, 14 items, 11 temporary items). Records of the Departmental Appeals Board, including administrative correspondence files; internship program files; judge and attorney working files; master files of electronic systems containing case tracking information and a roster or mediators; alternative dispute resolution training materials; and board and administrative law judge case files. Proposed for permanent retention are records of the chairman, program correspondence files, and official board decisions.

9. Department of Homeland Security, U.S. Immigration and Customs Enforcement (N1-567-11-11, 5 items, 5 temporary items). Master files of an electronic information system used to generate, log, and track subpoenas, summonses, and notices of employment eligibility verification inspections. No evidence is maintained in this system.

10. Department of Homeland Security, Transportation Security Administration (N1-560-10-2, 3 items, 3 temporary items). Records of the Federal Air Marshal Service training program, including course assessments, syllabi, instructor biographies, class requests, rosters, test scores, student awards, and disciplinary documents.

11. Department of Housing and Urban Development, Agency-wide (N1-207-09-03, 8 items, 8 temporary items). Web content of agency external and intranet sites; copies of content posted in social media tools; and web management records including design standards, reports of site traffic, and links.

12. Department of Housing and Urban Development (N1-207-10-2, 63 items, 58 temporary items, 5 permanent items). Legal records previously approved on prior schedules being submitted for media neutral status, including delegations of authority, legislative and regulatory records, litigation files, legal opinions, and attorney working files. Proposed for permanent retention are delegations of authority and several categories of legal opinions, including opinions specifically linked to Public Housing Authorities or selected as significant by the Office of General Counsel.

13. Department of the Interior, Office of the Special Trustee for American Indians (N1-75-09-9, 4 items, 1 temporary item). Scanned images of probate case file records maintained for reference. Proposed for permanent retention are hard copy probate case files and related electronic data.

14. Department of the Interior, Office of Surface Mining (N1-471-10-5, 2 items, 1 temporary item). Master files of an electronic information system used to document coal reclamation problems. Proposed for permanent retention are periodic snapshots of the master files.

15. Department of Justice, Federal Bureau of Investigation (N1-65-11-6, 1 item, 1 temporary item). Records of the Criminal Justice Information Services Division, including documents submitted to the FBI in support of requests to produce identification records. These documents are not scanned or included in the management database for processing requests.

16. Department of Justice, Justice Management Division (N1-60-11-8, 1 item, 1 temporary item). Legacy video recordings and documentation created as a part of routine business functions or events.

17. Department of Justice, Office of the Inspector General (N1-60-10-17, 10 items, 4 temporary items). Working files and case files of audits, evaluations, and inspections examining expenditure of funds within the Department in which no specific investigation is conducted. Proposed for permanent retention are internal and external reports, follow-up files, and case files of investigations of significant value.

18. Department of State, Bureau of Diplomatic Security (N1-59-09-36, 1 item, 1 temporary item). Master file of an electronic system used to track criminal investigations primarily relating to visa and passport fraud. If the Department of State becomes aware of any significant or precedent-setting cases that warrant preservation, the Department will notify NARA and an independent appraisal of these cases will be conducted.

19. Department of the Treasury, Financial Management Service (N1-425-09-1, 9 items, 7 temporary items). Records pertaining to agency debt collection activities, including routine debt management procedures, announcements and fact sheets, transaction level collections data for federal servicing programs as well as for treasury account servicing, routine and ad hoc reports and consolidated data, and debt management project and program management records. Proposed for permanent retention are debt collection policy directives and decisions as well as significant reports on debt collection activities.

20. National Aeronautics and Space Administration, Agency-wide (N1-255-10-4, 14 items, 12 temporary items). Records not required for documenting the history of both manned and unmanned space flight and routine administrative records. Proposed for permanent retention are programs and project records that document the history of both manned and unmanned space flight, including aerospace technology research and basic or applied scientific research.

Dated: April 6, 2011.
Sharon G. Thibodeau,
Deputy Assistant Archivist for Records Services—Washington, DC.

[FR Doc. 2011-9103 Filed 4-12-11; 8:45 am]

BILLING CODE 7515-01-P